DEPARTMENT OF HEALTH AND HUMAN SERVICES

[Document Identifier: OS-0990-0391]

Agency Information Collection Request; 60-Day Public Comment Request

AGENCY: Office of the Secretary, HHS

ACTION: Notice.

SUMMARY: In compliance with the requirement of the Paperwork Reduction Act of 1995, the Office of the Secretary (OS), Department of Health and Human Services, is publishing the following summary of a proposed collection for public comment.

DATES: Comments on the ICR must be received on or before June 11, 2018.

ADDRESSES: Submit your comments to Sherrette.Funn@hhs.gov or by calling (202) 795-7714.

FOR FURTHER INFORMATION CONTACT: When submitting comments or requesting information, please include the document identifier 0990-0391 and project title for reference, to Sherrette.funn@hhs.gov, or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Hospital Preparedness Program Data Collection.

Type of Collection: Extension.

OMB Number: 0990-0391—Hospital Preparedness Program (HPP) within the Division of National Healthcare Preparedness Programs (NHPP).

Abstract: The Hospital Preparedness Program (HPP) within the Division of National Healthcare Preparedness Programs (NHPP), in the Office of Emergency Management (OEM), Office of Assistant Secretary for Preparedness and Response (ASPR), in the Department of Health and Human Services is seeking clearance by the Office of Management of Budget (OMB) for an extension on Generic Data Collection Form. The Generic Data Collection Form will serve as the foundation for assessment and evaluation for HPP stakeholders, recipients, and sub-recipient programs and performance under the HPP Cooperative Agreement (CA) Program. Program data are gathered from recipients for both ad-hoc episodic reporting as well as required reporting as part of the HPP Cooperative Agreement. Ad-hoc reporting includes but is not limited to Coalition Assessment Tool (CAT) Data Collection Tool, Impact Survey, HPP Partner Survey, CA after action reports, Ebola and Other Special Pathogens. Required reporting include: Mid-Year and End-of-Year Progress Reports and other similar information collections (ICs) that account for recipient spending and program performance on all activities conducted in pursuit of achieving the HPP Cooperative Agreement goals.

As part of its health care sector preparedness and response obligations, HPP actively collaborates with The Centers for Disease Control and Prevention (CDC) Public Health Emergency Preparedness (PHEP) Program in order to realize health care preparedness and response goals. As part of the HPP Cooperative Agreement, the HPP data collection supports the U.S. public health and health care systems' ability to prepare for and to respond effectively to public health emergencies within the United States and associated territories and freely associated states. Recent public health threats of potentially catastrophic proportion underscore the importance of effective planning and response capabilities that can be applied to all hazards. As new threats to public health and health care emerge, ASPR must ensure that health and medical systems are not only integral parts of emergency response activities but also part of emergency preparedness planning with all relevant partners. Increased cooperation among responders, including state and local public health officials, emergency medical services (EMS), health care coalitions (HCCs), and private health care organizations, ensure the nation is better prepared to respond to all hazards. State public health departments and the mostly private sector health care delivery systems are now recognized as essential partners in emergency response and they have increased abilities to identify and mitigate potential threats to the public's health. The HPP data collection provides key health care and public health data to support technical assistance. The data collections also help to identify resources to support state, local, and territorial public health departments, HCCs, and health care organizations, and they help to show measurable and sustainable progress toward achieving the preparedness and response capabilities that promote prepared and resilient communities.

This generic data collection effort is crucial to HPP's decision-making process regarding the continued existence, design and funding levels of this program. Results from these data analyses enable HPP to monitor health care emergency preparedness and progress towards national preparedness and response goals. HPP supports priorities outlined by the National Preparedness Goal (the Goal) established by the Department of Homeland Security (DHS) in 2005.¹ The Goal guides entities at all levels of government in the development and maintenance of capabilities to prevent, protect against, respond to and recover from major events. Additionally, the Goal will assist entities at all levels of government in the development and maintenance of the capabilities to identify, prioritize and protect critical infrastructure.

This request is for 3 years; for annual and ad-hoc reporting.

Annualized Burden Hour Table
Forms (If necessary) | Respondents (If necessary) | Number of respondents | Number of responses per respondents | Average burden per response | Total burden hours
Generic and Future Program Data Information Collection(s) | HPP Awardees and Sub-awardees | 62 | 1 | 58 | 3,596
Total |  |  | 1 |  | 3,596

Date: April 6, 2018.
Terry Clark,
Office of the Secretary, Asst Paperwork Reduction Act Reports Clearance Officer.

[FR Doc. 2018-07534 Filed 4-11-18; 8:45 am]

BILLING CODE 4150-37-P